FEDERAL COMMUNICATIONS COMMISSION

47 CFR Part 73

[DA 04-2463; MB Docket No. 03-57; RM-10565]

Radio Broadcasting Services; Creede, Fort Collins, Westcliffe and Wheat Ridge, CO

AGENCY: Federal Communications Commission.

ACTION: Final rule; denial of petition for reconsideration.

SUMMARY: This document denies a Petition for Reconsideration and Motion to Consolidate filed by Meadowlark Group, Inc. directed to the Report and Order in this proceeding. See 69 FR 17070, April 1, 2004. With this action, the proceeding is terminated.

FOR FURTHER INFORMATION CONTACT: Robert Hayne, Media Bureau (202) 418-2177.

SUPPLEMENTARY INFORMATION: This is a synopsis of the Memorandum Opinion and Order in MM Docket No. 03-57 adopted August 4, 2004, and released August 9, 2004. The full text of this decision is available for inspection and copying during normal business hours in the FCC Reference Information Center at Portals II, CY-A257, 445 12th Street, SW., Washington, DC. The complete text of this decision may also be purchased from the Commission's copy contractor, Best Copy and Printing, Inc., 445 12th Street, SW., Room CY-B402, Washington, DC 20554, telephone 1-800-378-3160 or http://www.BCPIWEB.com. This document is not subject to the Congressional Review Act. (The Commission, is, therefore, not required to submit a copy of this Report and Order to GAO, pursuant to the Congressional Review Act, see 5 U.S.C. 801(a)(1)(A) since this Petition for Reconsideration of the Report and Order was denied, herein.

Federal Communications Commission.
John A. Karousos,
Assistant Chief, Audio Division, Media Bureau.

[FR Doc. 04-18805 Filed 8-16-04; 8:45 am]

BILLING CODE 6712-01-P